DEPARTMENT OF COMMERCE

National Oceanic and Atmospheric Administration

[I.D. 072605B]

Endangered Species; File No. 1518

AGENCY: National Marine Fisheries Service (NMFS), National Oceanic and Atmospheric Administration (NOAA), Commerce.

ACTION: Notice; issuance of permit.

SUMMARY: Notice is hereby given that Carlos Diez, Departamento de Recursos Naturales y Ambientales de Puerto Rico, P.O. Box 9066600, San Juan, Puerto Rico 00906-6600, has been issued a permit to take hawksbill (Eretmochelys imbricata) and green (Chelonia mydas) sea turtles for purposes of scientific research.

ADDRESSES: The permit and related documents are available for review upon written request or by appointment in the following office(s):

Permits, Conservation and Education Division, Office of Protected Resources, NMFS, 1315 East-West Highway, Silver Spring, MD 20910; phone (301) 713-2289; fax (301) 427-2521; and

Southeast Region, NMFS, 263 13th Avenue South, St. Petersburg, FL 33701; phone (727) 824-5312; fax (727) 824-5517.

FOR FURTHER INFORMATION CONTACT: Patrick Opay or Ruth Johnson, (301) 713-2289.

SUPPLEMENTARY INFORMATION: On May 27, 2005, notice was published in the Federal Register (70 FR 30704) that a request for a scientific research permit to take hawksbill and green sea turtles had been submitted by the above-named individual. The requested permit has been issued under the authority of the Endangered Species Act of 1973, as amended (ESA; 16 U.S.C. 1531 et seq.) and the regulations governing the taking, importing, and exporting of endangered and threatened species (50 CFR parts 222-226).

Permit No. 1518 authorizes Mr. Diez to study green and hawksbill sea turtles. The purpose of the research is to identify marine habitat, determine distribution and abundance, determine sex ratios, evaluate the extent of ingestion of marine debris, determine growth rates and sexual maturity, and quantify threats. Mr. Diez will annually capture up to 320 hawksbill and 250 green sea turtles by hand or entanglement net. All turtles will be measured, weighed, tagged, and blood sampled. A subset of animals will be lavaged and have transmitters attached to them. One leatherback sea turtle could be incidentally captured during the course of the studies but would be released alive. The permit is issued for 5 years.

Issuance of this permit, as required by the ESA, was based on a finding that such permit (1) was applied for in good faith, (2) will not operate to the disadvantage of any endangered or threatened species, and (3) is consistent with the purposes and policies set forth in section 2 of the ESA.

Dated: August 8, 2005.
Stephen L. Leathery,
Chief, Permits, Conservation and Education Division, Office of Protected Resources, National Marine Fisheries Service.

[FR Doc. 05-16058 Filed 8-12-05; 8:45 am]

BILLING CODE 3510-22-S